DEPARTMENT OF HOUSING AND URBAN DEVELOPMENT

[Docket No. FR-4591-N-03]

Regulatory Waiver Requests Granted for the Third Quarter of Calendar Year 2000

AGENCY: Office of the Secretary, HUD.

ACTION: Public Notice of the Granting of Regulatory Waivers from July 1, 2000 through September 30, 2000.

SUMMARY: Section 106 of the Department of Housing and Urban Development Reform Act of 1989 (the “HUD Reform Act”), requires HUD to publish quarterly Federal Register notices of all regulatory waivers that HUD has approved. Each notice must cover the quarterly period since the most recent Federal Register notice. The purpose of this notice is to comply with the requirements of section 106 of the HUD Reform Act. This notice contains a list of regulatory waivers granted by HUD during the quarter beginning on July 1, 2000 and ending on September 30, 2000.

FOR FURTHER INFORMATION CONTACT: For general information about this notice, contact Camille E. Acevedo, Associate General Counsel for Legislation and Regulations, Room 10276, Department of Housing and Urban Development, 451 Seventh Street, SW., Washington, DC 20410; telephone (202) 708-3055 (this is not a toll-free number). Hearing or speech-impaired persons may access this number via TTY by calling the toll-free Federal Information Relay Service at 1-800-877-8391.

For information concerning a particular waiver action for which public notice is provided in this document, contact the person whose name and address follows the description of the waiver granted in the accompanying list of waiver-grant actions.

SUPPLEMENTARY INFORMATION: As part of the Housing and Urban Development Reform Act of 1989 (the “HUD Reform Act”), the Congress adopted, at HUD's request, legislation to limit and control the granting of regulatory waivers by HUD. Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary rank or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived, and the designation of the provision;

c. Indicate the name and title of the person who granted the waiver request;

d. Describe briefly the grounds for approval of the request;

e. State how additional information about a particular waiver grant action may be obtained.

Section 106 of the HUD Reform Act also contains requirements applicable to waivers of HUD handbook provisions that are not relevant to the purpose of this notice. Today's document follows publication of HUD's Statement of Policy on Waiver of Regulations and Directives issued by HUD on April 22, 1991 (56 FR 16337). This notice covers HUD's waiver-grant activity from July 1, 2000 through September 30, 2000. Additionally, this notice contains one report of a regulatory waiver granted from March 1, 2000 through June 30, 2000 that was inadvertently omitted from the last notice. The report can be found in Section IV of this notice with respect to a waiver granted in connection with 24 CFR 950.980.

For ease of reference, the waivers granted by HUD are listed by HUD program office (for example, the Office of Community Planning and Development, the Office of Housing, the Office of Public and Indian Housing, etc.). Within each program office grouping, the waivers are listed sequentially by the section of title 24 being waived. For example, a waiver-grant action involving the waiver of a provision in 24 CFR part 58 would come before a waiver of a provision in 24 CFR part 570.

Where more than one regulatory provision is involved in the grant of a particular waiver request, the action is listed under the section number of the first regulatory requirement in title 24 that is being waived as part of the waiver-grant action. For example, a waiver of both § 58.73 and § 58.74 would appear sequentially in the listing under § 58.73.

Waiver-grant actions involving the same initial regulatory citation are in time sequence beginning with the earliest-dated waiver grant action.

Should HUD receive additional reports of waiver actions taken during the period covered by this report before the next report is published, the next updated report will include these earlier actions, as well as those that occurred between October 1, 2000 through December 31, 2000.

Accordingly, information about approved waiver requests pertaining to HUD regulations is provided in the Appendix that follows this notice.

Dated: January 10, 2001.
Andrew Cuomo,
Secretary.

Appendix—Listing of Waivers of Regulatory Requirements Granted by Offices of the Department of Housing and Urban Development July 1, 2000 Through September 30, 2000

Note to Reader: More information about the granting of these waivers, including a copy of the waiver request and approval, may be obtained by contacting the person whose name is listed as the contact person directly before each set of waivers granted.

The regulatory waivers granted appear in the following order:

I. Regulatory Waivers granted by the Office of Community Planning and Development.

II. Regulatory Waivers granted by the Office of Community Planning and Development and the Office of Public and Indian Housing.

III. Regulatory Waivers granted by the Office of Housing.

IV. Regulatory Waivers granted by the Office of Multifamily Housing Assistance Restructuring.

V. Regulatory Waivers granted by the Office of Public and Indian Housing.

I. Regulatory Waivers Granted by the Office of Community Planning and Development:

For further information about the following waiver actions, please see the name of the person which immediately follows the description of the waiver granted.

• Regulation: 24 CFR 58.34(b) and 24 CFR 58.38.

Project/Activity: Housing rehabilitation and housing acquisition projects, Ohkay Owingeh Housing Authority and the San Juan Pueblo Tribe, San Juan Pueblo, New Mexico.

Nature of Requirement: HUD's regulation at 24 CFR 58.34(b) states that a recipient does not have to submit a Request for Release of Funds and certification, and that no further approval from HUD will be needed to carry out exempt activities and projects, provided the responsible entity documents its determination that each activity or project is exempt. Additionally, 24 CFR 58.38 requires the responsible entity to maintain a written record of the environmental review for each project. This document will be designated the Environmental Review Record, which shall contain all environmental review documents, public notices and written determinations or environmental findings required by part 58, decision making and actions pertaining to a particular project.

Granted By: Cardell Cooper, Assistant Secretary for Community Planning and Development.

Date Granted: July 28, 2000.

Reason Waived: HUD determined that there was good cause for the waiver. The Ohkay Owingeh Housing Authority made several errors during the environmental review and clearance process required by 24 CFR part 58 that resulted in the Housing Authority obligating and expending grant funds for the project before a determination by the San Juan Pueblo that the activities were exempt. HUD made a determination that there was no statutory or regulatory provision that would have prevented conversion of these activities to exempt. Therefore, this waiver was needed in order to permit the San Juan Pueblo to complete the environmental review process by documenting that the activities are exempt under 24 CFR part 58, after the obligation of HUD funds. HUD also determined that no environmental degradation resulted from the regulatory noncompliance and that no mitigation activities would be necessary since no environmental damage or potential problems were identified. Considering the above, HUD determined that a waiver of the regulatory requirements would maintain the integrity of HUD's environmental review process and was consistent with Executive Order 12084 that encourages flexibility in the consideration of waiver requests from tribal governments.

Contact: Bruce Knott, Director, Office of Grants Evaluation, National Office of Native American Programs (ONAP), Department of Housing and Urban Development, 1999 Broadway—Suite 3390, Denver, Colorado 80202, Telephone: (303) 675-1600.

• Regulation: 24 CFR 91.520.

Project/Activity: The County of Essex, New Jersey requested a waiver of the submission deadline for the County's 1999 CAPER.

Nature of Requirement: HUD's regulation at 24 CFR 91.520 requires each grantee to submit a performance report to HUD within 90 days after the close of the grantee's program year.

Granted By: Cardell Cooper, Assistant Secretary for Community Planning and Development.

Date Granted: August 25, 2000.

Reason Waived: HUD determined that there was good cause for the waiver. The County requested the waiver because of difficulties resulting from medical emergencies experienced by the Acting Director and staff responsible for Consolidated Annual Performance Evaluation Report (CAPER) preparation.

Contact: Cornelia Robertson-Terry, Office of Community Planning and Development, Department of Housing and Urban Development, 451 Seventh Street, SW., Room 7152, Washington, DC 20410; telephone (202) 708-2565.

• Regulation: 24 CFR 91.520.

Project/Activity: The City of Cumberland, Maryland requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: August 25, 2000.

Reason Waived: HUD determined that there was good cause for the waiver. The City requested the waiver because the lead person responsible for completing the CAPER, as well as inputting data in IDIS, has been summoned for jury duty in Federal District Court for the next four months.

Contact: Cornelia Robertson-Terry, Office of Community Planning and Development, Department of Housing and Urban Development, 451 Seventh Street, SW., Room 7152, Washington, DC 20410; telephone (202) 708-2565.

• Regulation: 24 CFR 91.520.

Project/Activity: The State of Nebraska requested a waiver of the submission deadline for the State's 1999 CAPER.

Nature of Requirement: HUD's regulation at 24 CFR 91.520 requires each grantee to submit a performance report to HUD within 90 days after the close of the grantee's program year.

Granted By: Cardell Cooper, Assistant Secretary for Community Planning and Development.

Date Granted: August 31, 2000.

Reason Waived: HUD determined that there was good cause for the waiver. The State requested the waiver because of staff turnover and IDIS development delays that impacted the ability to comply with beneficiary reporting requirements.

Contact: Cornelia Robertson-Terry, Office of Community Planning and Development, Department of Housing and Urban Development, 451 Seventh Street, SW., Room 7152, Washington, DC 20410; telephone (202) 708-2565.

• Regulation: 24 CFR 91.520.

Project/Activity: The County of Los Angeles, California requested a waiver of the submission deadline for the County's 1999 CAPER.

Nature of Requirement: HUD's regulation at 24 CFR 91.520 requires each grantee to submit a performance report to HUD within 90 days after the close of the grantee's program year.

Granted By: Cardell Cooper, Assistant Secretary for Community Planning and Development.

Date Granted: September 13, 2000.

Reason Waived: HUD determined that there was good cause for the waiver. The County requested the waiver because of technical problems with the Community Development Commission's financial management system.

Contact: Cornelia Robertson-Terry, Office of Community Planning and Development, Department of Housing and Urban Development, 451 Seventh Street, SW., Room 7152, Washington, DC 20410; telephone (202) 708-2565.

• Regulation: 24 CFR 91.520.

Project/Activity: Baltimore County, Maryland requested a waiver of the submission deadline for the County's 1999 CAPER.

Nature of Requirement: HUD's regulation at 24 CFR 91.520 requires each grantee to submit a performance report to HUD within 90 days after the close of the grantee's program year.

Granted By: Cardell Cooper, Assistant Secretary for Community Planning and Development.

Date Granted: September 13, 2000.

Reason Waived: HUD determined that there was good cause for the waiver. The County requested the waiver because of staff turnover and the need for additional time to allow new staff to become familiar with the CAPER submission process.

Contact: Cornelia Robertson-Terry, Office of Community Planning and Development, Department of Housing and Urban Development, 451 Seventh Street, SW., Room 7152, Washington, DC 20410; telephone (202) 708-2565.

• Regulation: 24 CFR 91.520.

Project/Activity: The City of San Angelo, Texas requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 13, 2000.

Reason Waived: HUD determined that there was good cause for the waiver. The City requested the waiver because of staffing problems due to the resignation of one staff member and need for surgery by another staff member.

Contact: Cornelia Robertson-Terry, Office of Community Planning and Development, Department of Housing and Urban Development, 451 Seventh Street, SW., Room 7152, Washington, DC 20410; telephone (202) 708-2565.

• Regulation: 24 CFR 91.520.

Project/Activity: The City of Hamden, Connecticut requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 14, 2000.

Reason Waived: HUD determined that there was good cause for the waiver. The City requested the waiver because the City is rebuilding records to eliminate inconsistencies in its 1998 CAPER. This effort has not allowed the staff to focus on preparing the current 1999 CAPER.

Contact: Cornelia Robertson-Terry, Office of Community Planning and Development, Department of Housing and Urban Development, 451 Seventh Street, SW., Room 7152, Washington, DC 20410; telephone (202) 708-2565.

• Regulation: 24 CFR 91.520.

Project/Activity: The City of Nashua, New Hampshire requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reason Waived: HUD determined that there was good cause for the waiver. The City requested the waiver because of staff turnover and the delay in receiving audited financial figures necessary for reconciliation.

Contact: Cornelia Robertson-Terry, Office of Community Planning and Development, Department of Housing and Urban Development, 451 Seventh Street, SW., Room 7152, Washington, DC 20410; telephone (202) 708-2565.

• Regulation: 24 CFR 91.520.

Project/Activity: The City of Portland, Oregon requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reason Waived: HUD determined that there was good cause for the waiver. The City requested the waiver as a result of recent staff turnover in the Portland Development Commission's CDBG staff. This did not provide sufficient time for the staff to review the CAPER reporting information and reconcile it with the City's records before the submission deadline.

Contact: Cornelia Robertson-Terry, Office of Community Planning and Development, Department of Housing and Urban Development, 451 Seventh Street, SW., Room 7152, Washington, DC 20410; telephone (202) 708-2565.

• Regulation: 24 CFR 91.520.

Project/Activity: The City of Vancouver, Washington requested a waiver of the submission deadline for the City's 1999 CAPER.

Nature of Requirement: 24 CFR 91.520 requires each grantee to submit a performance report to HUD within 90 days after the close of the grantee's program year.

Granted By: Cardell Cooper, Assistant Secretary for Community Planning and Development.

Date Granted: September 27, 2000.

Reason Waived: HUD determined that there was good cause for the waiver. The City requested the waiver due to delays caused by changes in key personnel and the need to reprogram funds and correct data in IDIS to ensure accurate information.

Contact: Cornelia Robertson-Terry, Office of Community Planning and Development, Department of Housing and Urban Development, 451 Seventh Street, SW., Room 7152, Washington, DC 20410; telephone (202) 708-2565.

• Regulation: 24 CFR 91.520.

Project/Activity: The City of Norwalk, California requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reason Waived: HUD determined that there was good cause for the waiver. The City requested additional time for preparing the CAPER due to resignation of staff and unfilled vacancies.

Contact: Cornelia Robertson-Terry, Office of Community Planning and Development, Department of Housing and Urban Development, 451 Seventh Street, SW., Room 7152, Washington, DC 20410; telephone (202) 708-2565.

• Regulation: 24 CFR 91.520.

Project/Activity: The City of Moreno Valley, California requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reason Waived: HUD determined that there was good cause for the waiver. The City requested additional time because its newly installed financial management system caused delays in the availability of the City's final expenditure data for reconciliation with data in IDIS.

Contact: Cornelia Robertson-Terry, Office of Community Planning and Development, Department of Housing and Urban Development, 451 Seventh Street, SW., Room 7152, Washington, DC 20410; telephone (202) 708-2565.

• Regulation: 24 CFR 91.520.

Project/Activity: The City of Tulare, California requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reason Waived: HUD determined that there was good cause for the waiver. The City requested additional time because of the office's recent move to a new facility that included relocating and upgrading the computer mainframe, the network, and personal computers. This move delayed computer operations needed to produce accurate IDIS data for the CAPER.

Contact: Cornelia Robertson-Terry, Office of Community Planning and Development, Department of Housing and Urban Development, 451 Seventh Street, SW., Room 7152, Washington, DC 20410; telephone (202) 708-2565.

• Regulation: 24 CFR 91.520.

Project/Activity: The City of Modesto, California requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reason Waived: HUD determined that there was good cause for the waiver. The City requested additional time due to vacancies and changes in key staff positions that are responsible for preparing the CAPER.

Contact: Cornelia Robertson-Terry, Office of Community Planning and Development, Department of Housing and Urban Development, 451 Seventh Street, SW., Room 7152, Washington, DC 20410; telephone (202) 708-2565.

• Regulation: 24 CFR 91.520.

Project/Activity: The City of Napa, California requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reason Waived: HUD determined that there was good cause for the waiver. The City requested additional time because staff resources were diverted to cope with the aftermath of a serious earthquake that damaged many city businesses and residences.

Contact: Cornelia Robertson-Terry, Office of Community Planning and Development, Department of Housing and Urban Development, 451 Seventh Street, SW., Room 7152, Washington, DC 20410; telephone (202) 708-2565.

• Regulation: 24 CFR 91.520.

Project/Activity: The City of Elizabeth, New Jersey requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reason Waived: HUD determined that there was good cause for the waiver. The City requested additional time because of the delay in submitting its Consolidated Plan and to ensure that the required public comment period for the CAPER will be satisfied.

Contact: Cornelia Robertson-Terry, Office of Community Planning and Development, Department of Housing and Urban Development, 451 Seventh Street, SW., Room 7152, Washington, DC 20410; telephone (202) 708-2565.

• Regulation: 24 CFR 91.520.

Project/Activity: The City of Camden, New Jersey requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reason Waived: HUD determined that there was good cause for the waiver. The City requested additional time due to staff shortages.

Contact: Cornelia Robertson-Terry, Office of Community Planning and Development, Department of Housing and Urban Development, 451 Seventh Street, SW., Room 7152, Washington, DC 20410; telephone (202) 708-2565.

• Regulation: 24 CFR 91.520.

Project/Activity: The City of East Orange, New Jersey requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reason Waived: HUD determined that there was good cause for the waiver. The City requested additional time because of staff difficulties resulting from the downsizing of the Planning Department, which is responsible for the preparation of the CAPER.

Contact: Cornelia Robertson-Terry, Office of Community Planning and Development, Department of Housing and Urban Development, 451 Seventh Street, SW., Room 7152, Washington, DC 20410; telephone (202) 708-2565.

• Regulation: 24 CFR 91.520.

Project/Activity: The City of Stamford, Connecticut requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reason Waived: HUD determined that there was good cause for the waiver. The City requested additional time because of a staff turnover, which resulted in a delay in generating IDIS reports.

Contact: Cornelia Robertson-Terry, Office of Community Planning and Development, Department of Housing and Urban Development, 451 Seventh Street, SW., Room 7152, Washington, DC 20410; telephone (202) 708-2565.

sbull Regulation: 24 CFR 91.520.

Project/Activity: The City of New Britain, Connecticut requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reason Waived: HUD determined that there was good cause for the waiver. The City requested additional time because of renovation of the City's Office of Municipal Development and the reorganization of its staff. Office files have been moved and displaced making it difficult for the staff to have efficient access to information on grantee activities.

Contact: Cornelia Robertson-Terry, Office of Community Planning and Development, Department of Housing and Urban Development, 451 Seventh Street, SW., Room 7152, Washington, DC 20410; telephone (202) 708-2565.

• Regulation: 24 CFR 91.520.

Project/Activity: The City of New London, Connecticut requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reason Waived: HUD determined that there was good cause for the waiver. The City requested additional time because of the loss of two key finance staff. The two individuals provided the critical information required to complete the reconciliation of programmatic and financial records.

Contact: Cornelia Robertson-Terry, Office of Community Planning and Development, Department of Housing and Urban Development, 451 Seventh Street, SW., Room 7152, Washington, DC 20410; telephone (202) 708-2565.

• Regulation: 24 CFR 91.520.

Project/Activity: The City of Weirton, West Virginia requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reason Waived: HUD determined that there was good cause for the waiver. The City requested additional time due to staff turnover.

Contact: Cornelia Robertson-Terry, Office of Community Planning and Development, Department of Housing and Urban Development, 451 Seventh Street, SW., Room 7152, Washington, DC 20410; telephone (202) 708-2565.

• Regulation: 24 CFR 91.520.

Project/Activity: The City of Petersburg, Virginia requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reason Waived: HUD determined that there was good cause for the waiver. The City requested additional time because of staff turnover.

Contact: Cornelia Robertson-Terry, Office of Community Planning and Development, Department of Housing and Urban Development, 451 Seventh Street, SW., Room 7152, Washington, DC 20410; telephone (202) 708-2565.

• Regulation: 24 CFR 91.520.

Project/Activity: The City of Virginia Beach, Virginia requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reason Waived: HUD determined that there was good cause for the waiver. The City requested additional time for key staff to review the report and allow for public comment.

Contact: Cornelia Robertson-Terry, Office of Community Planning and Development, Department of Housing and Urban Development, 451 Seventh Street, SW., Room 7152, Washington, DC 20410; telephone (202) 708-2565.

• Regulation: 24 CFR 91.520.

Project/Activity: The City of Charlottesville, Virginia requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reason Waived: HUD determined that there was good cause for the waiver. The City requested additional time due to staff turnover.

Contact: Cornelia Robertson-Terry, Office of Community Planning and Development, Department of Housing and Urban Development, 451 Seventh Street, SW., Room 7152, Washington, DC 20410; telephone (202) 708-2565.

• Regulation: 24 CFR 91.520.

Project/Activity: The City of Bristol, Virginia requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reason Waived: HUD determined that there was good cause for the waiver. The City requested additional time because of internal delays in obtaining accounting information.

Contact: Cornelia Robertson-Terry, Office of Community Planning and Development, Department of Housing and Urban Development, 451 Seventh Street, SW., Room 7152, Washington, DC 20410; telephone (202) 708-2565.

• Regulation: 24 CFR 91.520.

Project/Activity: The City of Portsmouth, Virginia requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reason Waived: HUD determined that there was good cause for the waiver. The City requested additional time due to recent staff turnover.

Contact: Cornelia Robertson-Terry, Office of Community Planning and Development, Department of Housing and Urban Development, 451 Seventh Street, SW., Room 7152, Washington, DC 20410; telephone (202) 708-2565.

• Regulation: 24 CFR 91.520.

Project/Activity: Chesterfield County, Virginia requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reason Waived: HUD determined that there was good cause for the waiver. The County requested additional time due to recent staff turnover.

Contact: Cornelia Robertson-Terry, Office of Community Planning and Development, Department of Housing and Urban Development, 451 Seventh Street, SW., Room 7152, Washington, DC 20410; telephone (202) 708-2565.

• Regulation: 24 CFR 91.520.

Project/Activity: The City of Philadelphia, Pennsylvania requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reason Waived: HUD determined that there was good cause for the waiver. The City requested additional time because the City's fiscal year closing adjustments will not be released in sufficient time to allow the office responsible for report preparation to obtain information needed to complete the CAPER before the deadline.

Contact: Cornelia Robertson-Terry, Office of Community Planning and Development, Department of Housing and Urban Development, 451 Seventh Street, SW., Room 7152, Washington, DC 20410; telephone (202) 708-2565.

• Regulation: 24 CFR 91.520.

Project/Activity: The City of Scranton, Pennsylvania requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reason Waived: HUD determined that there was good cause for the waiver. The City requested additional time due to computer system failure.

Contact: Cornelia Robertson-Terry, Office of Community Planning and Development, Department of Housing and Urban Development, 451 Seventh Street, SW., Room 7152, Washington, DC 20410; telephone (202) 708-2565.

• Regulation: 24 CFR 91.520.

Project/Activity: The City of Dover, Delaware requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reason Waived: HUD determined that there was good cause for the waiver. The City requested additional time because the staff person directly responsible for preparing the CAPER has been on sick leave.

Contact: Cornelia Robertson-Terry, Office of Community Planning and Development, Department of Housing and Urban Development, 451 Seventh Street, SW., Room 7152, Washington, DC 20410; telephone (202) 708-2565.

• Regulation: 24 CFR 91.520.

Project/Activity: The City of Baltimore, Maryland requested a waiver of the submission deadline for the City's 1999 CAPER.

Nature of Requirement: HUD's regulation at 24 CFR 91.520 requires each grantee to submit a performance report to HUD within 90 days after the close of the grantee's program year.

Granted By: Cardell Cooper, Assistant Secretary for Community Planning and Development.

Date Granted: September 27, 2000.

Reasons Waived: HUD determined that there was good cause for the waiver. The City requested additional time because the accounting records are not released in sufficient time to allow the City to complete the CAPER.

Contact: Cornelia Robertson-Terry, Office of Community Planning and Development, Department of Housing and Urban Development, 451 Seventh Street, SW., Room 7152, Washington, DC 20410; telephone (202) 708-2565.

• Regulation: 24 CFR 92.205.

Project/Activity: The Kentucky Housing Corporation requested a waiver of the provision to permit less than a $1,000 minimum HOME investment per unit.

Nature of Requirement: HUD's regulation at 24 CFR 92.205 requires that the minimum of HOME funds that may be invested in a project is an average of $1,000 per unit.

Granted By: Cardell Cooper, Assistant Secretary for Community Planning and Development.

Date Granted: August 7, 2000.

Reason Waived: HUD determined that there was good cause for the waiver. KHC provided justification that less than $1,000 was needed to assist homebuyers. Without a waiver these recipients would be either disqualified from becoming homebuyers or they would be over-subsidized in order to receive the HOME assistance.

Contact: Cornelia Robertson-Terry, Office of Community Planning and Development, Department of Housing and Urban Development, 451 Seventh Street, SW., Room 7152, Washington, DC 20410; telephone (202) 708-2565.

• Regulations: 24 CFR 92.205, 92.503(b)(2).

Project/Activity: The Kentucky Housing Corporation requested a waiver of provisions regarding termination of a project prior to completion and the subsequent repayment requirement.

Nature of Requirement: HUD's regulations at 24 CFR 92.205 and 92.503(b)(2) require that a HOME unit that is terminated before completion, either voluntarily or otherwise, constitutes an ineligible activity and any HOME funds invested must be repaid.

Granted By: Cardell Cooper, Assistant Secretary for Community Planning and Development.

Date Granted: July 20, 2000.

Reason Waived: HUD determined that there was good cause for the waiver. The homeowner died prior to completion of construction and no further work on the home was done.

Contact: Cornelia Robertson-Terry, Office of Community Planning and Development, Department of Housing and Urban Development, 451 Seventh Street, SW., Room 7152, Washington, DC 20410; telephone (202) 708-2565.

• Regulation: 24 CFR 92.214(a)(8).

Project/Activity: The City of Taylorsville, Utah requested permission to use HOME funds for acquisition of a parcel of land located within its boundaries, but owned by Salt Lake County. The City plans to move an existing home on the subject site which will be sold to a low income family.

Nature of Requirement: HUD's regulation at 24 CFR 92.214(a)(8) prohibits grantees from using HOME funds to pay for the acquisition of property owned by the participating jurisdiction, except for property acquired by the PJ with HOME funds, or property acquired in anticipation of carrying out a HOME project.

Granted By: Cardell Cooper, Assistant Secretary for Community Planning and Development.

Date Granted: August 31, 2000.

Reason Waived: HUD determined that there was good cause for the waiver since the transaction would assist the City in its effort to provide an affordable unit for a low income family.

Contact: Cornelia Robertson-Terry, Office of Community Planning and Development, Department of Housing and Urban Development, 451 Seventh Street, SW., Room 7152, Washington, DC 20410; telephone (202) 708-2565.

• Regulation: 24 CFR 92.251.

Project/Activity: North Dakota counties and Indian reservation communities requested a waiver of the HOME provision which requires HOME-assisted housing to meet the applicable codes, standards, and ordinances specified.

Nature of Requirement: HUD's regulation at 24 CFR 92.251 requires that housing that is constructed or rehabilitated with HOME funds must meet all applicable local codes, rehabilitation standards, ordinances, and zoning ordinances at the time of project completion.

Granted By: Cardell Cooper, Assistant Secretary for Community Planning and Development.

Date Granted: August 31, 2000.

Reason Waived: HUD determined that there was good cause for the waiver. The State of North Dakota requested this waiver in order to allow for the use of HOME funds for emergency repairs on damaged housing within the disaster area. Funding sources are inadequate to address the housing needs that exist within the disaster area. The State would like to use HOME funds to assist in addressing this need. HUD therefore determined that this provision creates undue hardship for the communities and families in need of disaster-related assistance.

Contact: Cornelia Robertson-Terry, Office of Community Planning and Development, Department of Housing and Urban Development, 451 Seventh Street, SW., Room 7152, Washington, DC 20410; telephone (202) 708-2565.

• Regulation: 24 CFR 570.200(h)(1).

Project/Activity: The City of Coral Springs, Florida requested a waiver to allow the City to use CDBG funds to reimburse administrative costs incurred for the planning and preparation of its first Consolidated Plan as a new Entitlement community.

Nature of Requirement: HUD's regulation at 24 CFR 570.200(h)(1) states that a grantee may only use CDBG funds to pay pre-award costs if, among other things, the activity for which the costs are being incurred is included in a Consolidated Plan or an amended Consolidated Plan prior to the costs being incurred.

Granted By: Cardell Cooper, Assistant Secretary for Community Planning and Development.

Date Granted: July 28, 2000.

Reason Waived: HUD determined that there was good cause for the waiver. The City is a new Entitlement community. Failure to grant the waiver would result in undue hardship and affect the benefits to the low- and moderate-income population of the City. Further, the authorization for new grantees to pay for planning and administrative start-up costs with CDBG funds was inadvertently omitted during the November 1995 revision to the CDBG regulations.

Contact: Cornelia Robertson-Terry, Office of Community Planning and Development, Department of Housing and Urban Development, 451 Seventh Street, SW., Room 7152, Washington, DC 20410; telephone (202) 708-2565.

• Regulation: 24 CFR 570.200(h)(1).

Project/Activity: The City of Deerfield Beach, Florida requested a waiver to allow the City to use CDBG funds to reimburse administrative costs incurred for the planning and preparation of its first Consolidated Plan as a new Entitlement community.

Nature of Requirement: HUD's regulation at 24 CFR 570.200(h)(1) states that a grantee may only use CDBG funds to pay pre-award costs if, among other things, the activity for which the costs are being incurred is included in a Consolidated Plan or an amended Consolidated Plan prior to the costs being incurred.

Granted By: Cardell Cooper, Assistant Secretary for Community Planning and Development.

Date Granted: September 27, 2000.

Reason Waived: HUD determined that there was good cause for the waiver. The City is a new Entitlement community. Failure to grant the waiver would result in undue hardship and affect the benefits to the low- and moderate-income population of the City. Further, the authorization for new grantees to pay for planning and administrative start-up costs with CDBG funds was inadvertently omitted during the November 1995 revision to the CDBG regulations.

Contact: Cornelia Robertson-Terry, Office of Community Planning and Development, Department of Housing and Urban Development, 451 Seventh Street, SW., Room 7152, Washington, DC 20410; telephone (202) 708-2565.

• Regulation: 24 CFR 576.21(b)(2).

Project/Activity: Hennepin County, Minnesota requested a waiver of the 30 percent limitation on essential services in its ESG program.

Nature of Requirement: HUD's regulation at 24 CFR 576.21(b)(2) implements the statutory requirement that no more than thirty percent of the Emergency Shelter Grant funds be expended for essential services. This regulatory section also notes that the statute (42 U.S.C. 11374) also permits waiver of this requirement if the grantee demonstrates that other eligible activities are already being carried out in the locality with other resources.

Granted By: Cardell Cooper, Assistant Secretary for Community Planning and Development.

Date Granted: July 10, 2000.

Reason Waived: HUD determined that there was good cause for the waiver. Hennepin County provided documentation to support its claim that alternative funding for rehabilitation, operating costs and other eligible activities is available. The waiver allows Hennepin County to spend up to 100 percent of its FY 1999 and FY 2000 grants on essential services.

Contact: Cornelia Robertson-Terry, Office of Community Planning and Development, Department of Housing and Urban Development, 451 Seventh Street, SW., Room 7152, Washington, DC 20410; telephone (202) 708-2565.

• Regulation: 24 CFR 576.21(b)(2).

Project/Activity: The Municipality of Caguas, Puerto Rico requested a waiver of the 30 percent limitation on essential services in its ESG program.

Nature of Requirement: HUD's regulation at 24 CFR 576.21(b)(2) implements the statutory requirement that no more than thirty percent of the Emergency Shelter Grant funds be expended for essential services. This regulatory section also notes that the statute (42 U.S.C. 11374) also permits waiver of this requirement if the grantee demonstrates that other eligible activities are already being carried out in the locality with other resources.

Granted By: Cardell Cooper, Assistant Secretary for Community Planning and Development.

Date Granted: August 25, 2000.

Reason Waived: HUD determined that there was good cause for the waiver. Caguas provided documentation to HUD to support the Municipality's claim that it is meeting its demand for other activities through funding from the United Way, the Department of Health, and local funds.

Contact: Cornelia Robertson-Terry, Office of Community Planning and Development, Department of Housing and Urban Development, 451 Seventh Street, SW., Room 7152, Washington, DC 20410; telephone (202) 708-2565.

• Regulation: 24 CFR 576.21(b)(2).

Project/Activity: Onondago County, New York requested a waiver of the 30 percent limitation on essential services in its ESG program.

Nature of Requirement: HUD's regulation at 24 CFR 576.21(b)(2) requires that no more than 30 percent of ESG grant funds be expended for essential services.

Granted By: Cardell Cooper, Assistant Secretary for Community Planning and Development.

Date Granted: August 31, 2000.

Reason Waived: HUD determined that there was good cause for the waiver. Onondaga County provided documentation to HUD to support its claim of that other present needs for the County's ESG funds exist. The County may spend up to 58.67 percent of its funds for essential services.

Contact: Cornelia Robertson-Terry, Office of Community Planning and Development, Department of Housing and Urban Development, 451 Seventh Street, SW., Room 7152, Washington, DC 20410; telephone (202) 708-2565.

• Regulation: 24 CFR 576.35(b).

Project/Activity: The City of Minneapolis, Minnesota requested a waiver regarding the time frame for expenditure of its FY 1998 Emergency Shelter Grant (ESG) funds.

Nature of Requirement: HUD's regulation at 24 CFR 576.35(b) requires recipients to expend ESG funds within two years of HUD's award.

Granted By: Cardell Cooper, Assistant Secretary for Community Planning and Development.

Date Granted: July 28, 2000.

Reason Waived: HUD determined that there was good cause for the waiver. The City experienced unexpected delays in several rehabilitation projects. Failure to grant the waiver would adversely affect the City's ability to serve the homeless. HUD extended the date for the City to expend its 1998 funds to on or about July 15, 2000.

Contact: Cornelia Robertson-Terry, Office of Community Planning and Development, Department of Housing and Urban Development, 451 Seventh Street, SW., Room 7152, Washington, DC 20410; telephone (202) 708-2565.

• Regulation: 24 CFR 882.408(b).

Project/Activity: The Metro Dade, Florida Housing Agency requested a waiver of the limitation on the initial Gross Rent for a Single Room Occupancy (SRO) property. The proposed rent would exceed the current Moderate Rehabilitation SRO Fair Market Rent (FMR) by more than 10%.

Nature of Requirement: HUD's regulation at 24 CFR 882.408(b) allows a housing agency to approve initial gross rents which exceed the applicable FMR by up to 10 percent for all units of a given size in specified areas.

Granted By: Cardell Cooper, Assistant Secretary for Community Planning and Development.

Date Granted: September 5, 2000.

Reason Waived: HUD determined that there was good cause for the waiver. Higher rents were necessitated by development obstacles such as change in sites, change in owner/developer and delay in obtaining financial resources.

Contact: Cornelia Robertson-Terry, Office of Community Planning and Development, Department of Housing and Urban Development, 451 Seventh Street, SW., Room 7152, Washington, DC 20410; telephone (202) 708-2565.

• Regulation: 24 CFR 882.805(d)(1)(ii)(B).

Project/Activity: The San Francisco, California Housing Authority requested a waiver of the Single Room Occupancy (SRO) requirement on the maximum amount allowed per unit for rehabilitation.

Nature of Requirement: HUD's regulation at 24 CFR 882.805(d)(1)(ii)(B) allows an SRO recipient to multiply the maximum per unit rehabilitation amount by 2.4 in areas where the Housing Authority has demonstrated to HUD's satisfaction that the increase is reasonable to accommodate special local conditions, including high construction costs. In the case of San Francisco, this would allow a maximum rehabilitation costs of $42,840.

Granted By: Cardell Cooper, Assistant Secretary for Community Planning and Development.

Date Granted: August 30, 2000.

Reason Waived: HUD determined that there was good cause for the waiver. The City documented the high cost of the project and the difficulty in finding and acquiring suitable properties for the SRO program. The City further stated that the property is almost 90 years old and needs extensive rehabilitation to meet current building and accessibility code standards. The final per unit rehabilitation cost for this project is projected to be $69,311, well above the maximum approvable cost.

Contact: Cornelia Robertson-Terry, Office of Community Planning and Development, Department of Housing and Urban Development, 451 Seventh Street, SW., Room 7152, Washington, DC 20410; telephone (202) 708-2565.

II. Regulatory Waivers Granted by the Office of Community Planning and Development and the Office of Public and Indian Housing

For further information about the following waiver actions, please see the name of the person which immediately follows the description of the waiver granted.

• Regulation: 24 CFR 50.3(h)(3) and 1000.20(a).

Project/Activity: Acquisition of 10 Operation Walking Shield housing units, Flandreau Santee Sioux Tribe and Flandreau Santee Sioux Housing Authority, Flandreau, South Dakota.

Nature of Requirement: HUD's regulation at § 50.3(h) requires that for HUD grant programs in which funding approval for an applicant's program must occur before the applicant's selection of properties an applicant must agree to not acquire, rehabilitate, convert, lease, repair or construct property, nor commit or expend HUD or local funds until HUD approval of the property is obtained. HUD's regulation at § 1000.20(a) requires an environmental review be completed for any Native American Housing Assistance and Self-Determination Act project not excluded from review before a recipient may acquire, rehabilitate, convert, lease, repair or construct property, or commit HUD or local funds.

Granted By: Cardell Cooper, Assistant Secretary for Community Planning and Development and Harold Lucas, Assistant Secretary for Public and Indian Housing.

Date Granted: July 31, 2000.

Reason Waived: HUD determined that there was good cause for the waiver. The Flandreau Santee Sioux Housing Authority used NAHASDA funds to acquire, rehabilitate and lease the subject Walking Shield units before receiving HUD approval of the property as required by 24 CFR 50.3(h)(3) and before HUD completed an environmental review. HUD has since completed the environmental review for the project. In order to satisfactorily resolve the issue, waivers of the provisions of 24 CFR 50.3(h)(3) and 1000.20(a) are necessary. HUD also determined that no environmental degradation resulted from the regulatory noncompliance and that no mitigation activities would be necessary since no environmental damage or potential problems were identified. Considering the above, HUD determined that a waiver of the regulatory requirements would maintain the integrity of HUD's environmental review process and was consistent with Executive Order 12084 that encourages flexibility in the consideration of waiver requests from tribal governments.

Contact: Bruce Knott, Director, Office of Grants Evaluation, National Office of Native American Programs (ONAP), Department of Housing and Urban Development, 1999 Broadway—Suite 3390, Denver, Colorado 80202, Telephone: (303) 675-1600.

sbull Regulation: 24 CFR 50.17 and 1000.20(a).

Project/Activity: Construction of 15 housing units with residual 1937 Housing Act funds under the Native American Housing Assistance and Self-Determination Act (NAHASDA), Upper Sioux Tribe, Granite Falls, Minnesota.

Nature of Requirement: HUD's regulation at § 50.17 requires that an environmental assessment and finding of no significant impact or an environmental impact statement be completed before the applicable decision points for projects not exempt or categorically excluded from environmental review requirements. HUD's regulation at § 1000.20(a) requires that an environmental review be completed for any NAHASDA project not excluded from review before a recipient may acquire, rehabilitate, convert, lease, repair or construct property, or commit HUD or local funds.

Granted By: Cardell Cooper, Assistant Secretary for Community Planning and Development and Harold Lucas, Assistant Secretary for Public and Indian Housing.

Date Granted: Granted by Mr. Cooper on July 27, 2000 and by Mr. Lucas on July 28, 2000.

Reason Waived: HUD determined that there was good cause for the waiver. The Upper Sioux Tribe made several errors during the environmental review and clearance process required by 24 CFR part 58 that resulted in the tribe obligating and expending grant funds for the project before HUD's approval of the Request for Release of Funds and Certification, form HUD 7015.15. HUD made a determination based upon these actions to conduct an environmental review according to 24 CFR part 50. A HUD environmental review at this point would be after the execution of the Indian Housing Block Grant Agreement for this project. Therefore, a waiver is necessary to allow HUD to conduct the review and resolve the issue. HUD also determined that no environmental degradation resulted from the regulatory noncompliance and that no mitigation activities would be necessary since no environmental damage or potential problems were identified. Considering the above, HUD determined that a waiver of the regulatory requirements would maintain the integrity of HUD's environmental review process and was consistent with Executive Order 12084 that encourages flexibility in the consideration of waiver requests from tribal governments.

Contact: Bruce Knott, Director, Office of Grants Evaluation, National Office of Native American Programs (ONAP), Department of Housing and Urban Development, 1999 Broadway—Suite 3390, Denver, Colorado 80202, Telephone: (303) 675-1600.

III. Regulatory Waivers Granted by the Office of Housing

For further information about the following waiver actions, please see the name of the person which immediately follows the description of the waiver granted.

• Regulation: 24 CFR 202.3(c)(2)(iii).

Project/Activity: Credit Watch/Termination Threshold.

Nature Of Requirement: HUD's regulation at 24 CFR 202.3(c)(2)(iii) establishes a default and claim rate threshold for HUD/FHA approved mortgagees on credit watch status.

Granted By: William C. Apgar, Assistant Secretary for Housing-Federal Housing Commissioner

Date Granted: August 21, 2000.

Reason Waived: HUD determined that there was good cause for the waiver. Waiving the regulation permits HUD/FHA to initially focus on those lenders originating the worst performing loans. The waiver will adjust the Credit Watch threshold from being between 150% and 200.9% of the HUD field office default and claim rate to being between 200% and 300.9% of that rate. This waiver is limited to Credit Watch reviews conducted in the third quarter of FY 2000.

Contact: Joy Hadley, Director, Quality Assurance Division, Department of Housing and Urban Development, 451 Seventh Street SW., Room B133-P3214, Washington, DC 20410, telephone (202) 708-2830.

• Regulation: 24 CFR 891.100(d).

Project/Activity: Lakeview Senior Apartments, Carmel, New York, Project Number: 012-EE245/NY36-S981-001.

Nature Of Requirement: HUD's regulation at 24 CFR 891.100(d) prohibits amendment of the capital advance fund reservation prior to initial closing.

Granted By: William C. Apgar, Assistant Secretary for Housing-Federal Housing Commissioner.

Date Granted: July 25, 2000.

Reason Waived: HUD determined that there was good cause for the waiver. The sponsor had exhausted all efforts to secure secondary funding from outside sources, and the project was economically designed and comparable to similar projects developed in the area.

Contact: Willie Spearmon, Director, Office of Housing Assistance and Grant Administration, Department of Housing and Urban Development, 451 Seventh Street, SW., Washington, DC 20410, telephone: (202) 708-3000.

• Regulation: 24 CFR 891.100(d).

Project/Activity: Good Shepherd, Blair, Nebraska, Project Number: 103-E018/NE26-S981-001.

Nature Of Requirement: HUD's regulation at 24 CFR 891.100(d) prohibits amendment of the capital advance fund reservation prior to initial closing.

Granted By: William C. Apgar, Assistant Secretary for Housing-Federal Housing Commissioner.

Date Granted: August 4, 2000.

Reason Waived: HUD determined that there was good cause for the waiver. The owner had received a $65,000 grant from the Federal Housing Finance Board, the project was comparable in cost to similar projects, and the sponsor could not contribute any additional funds.

Contact: Willie Spearmon, Director, Office of Housing Assistance and Grant Administration, Department of Housing and Urban Development, 451 Seventh Street, SW., Washington, DC 20410, telephone: (202) 708-3000.

• Regulation: 24 CFR 891.100(d).

Project/Activity: Centerplace III, New Albany, Indiana, Project Number: 073-HD048/IN36-Q981-002.

Nature Of Requirement: HUD's regulation at 24 CFR 891.100(d) prohibits amendment of the capital advance fund reservation prior to initial closing.

Granted By: William C. Apgar, Assistant Secretary for Housing-Federal Housing Commissioner.

Date Granted: August 8, 2000.

Reason Waived: HUD determined that there was good cause for the waiver. The development costs were comparable to other similar projects recently developed in Indiana and the project was of modest design.

Contact: Willie Spearmon, Director, Office of Housing Assistance and Grant Administration, Department of Housing and Urban Development, 451 Seventh Street, SW., Washington, DC 20410, telephone: (202) 708-3000.

• Regulation: 24 CFR 891.100(d).

Project/Activity: Castleton Homes, Lanham, Maryland, Project Number: 000-HD041/MD39-Q981-003.

Nature Of Requirement: HUD's regulation at 24 CFR 891.100(d) prohibits amendment of the capital advance fund reservation prior to initial closing.

Granted By: William C. Apgar, Assistant Secretary for Housing-Federal Housing Commissioner.

Date Granted: August 11, 2000.

Reason Waived: HUD determined that there was good cause for the waiver. The project required replacement of the HVAC systems in all three houses which had significantly increased costs.

Contact: Willie Spearmon, Director, Office of Housing Assistance and Grant Administration, Department of Housing and Urban Development, 451 Seventh Street, SW., Washington, DC 20410, telephone: (202) 708-3000.

• Regulation: 24 CFR 891.100(d).

Project/Activity: Bishop Daly Gardens, Uniondale, New York, Project Number: 012-EE249/NY36-S981-005.

Nature Of Requirement: HUD's regulation at 24 CFR 891.100(d) prohibits amendment of the capital advance fund reservation prior to initial closing.

Granted By: William C. Apgar, Assistant Secretary for Housing-Federal Housing Commissioner.

Date Granted: August 16, 2000.

Reason Waived: HUD determined that there was good cause for the waiver. The project was economically designed and comparable in cost to similar projects, and the sponsor could not contribute any additional funds.

Contact: Willie Spearmon, Director, Office of Housing Assistance and Grant Administration, Department of Housing and Urban Development, 451 Seventh Street, SW., Washington, DC 20410, telephone:(202) 708-3000.

• Regulation: 24 CFR 891.100(d).

Project/Activity: Turlock Silvercrest, Turlock, California, Project Number: 121-EE112/CA39-S981-005.

Nature Of Requirement: HUD's regulation at 24 CFR 891.100(d) prohibits amendment of the capital advance fund reservation prior to initial closing.

Granted By: William C. Apgar, Assistant Secretary for Housing-Federal Housing Commissioner.

Date Granted: August 21, 2000.

Reason Waived: HUD determined that there was good cause for the waiver. The contractor could not build the project within the fund reservation amount.

Contact: Willie Spearmon, Director, Office of Housing Assistance and Grant Administration, Department of Housing and Urban Development, 451 Seventh Street, SW., Washington, DC 20410, telephone:(202) 708-3000.

• Regulation: 24 CFR 891.100(d).

Project/Activity: VOA Riverside 10, Fort Worth, Texas, Project Number: 113-HD015/TX1-Q971-001.

Nature Of Requirement: HUD's regulation at 24 CFR 891.100(d) prohibits amendment of the capital advance fund reservation prior to initial closing.

Granted By: William C. Apgar, Assistant Secretary for Housing-Federal Housing Commissioner.

Date Granted: August 21, 2000.

Reason Waived: HUD determined that there was good cause for the waiver. The project was modestly designed and comparable to similar projects in the area, and the sponsor had exhausted all means of obtaining additional funds for the is project.

Contact: Willie Spearmon, Director, Office of Housing Assistance and Grant Administration, Department of Housing and Urban Development, 451 Seventh Street, SW., Washington, DC 20410, telephone:(202) 708-3000.

• Regulation: 24 CFR 891.100(d).

Project/Activity: Saint Paul the Apostle Senior Housing, Corona, New York, Project Number: 012-EE254/NY36-S981-010.

Nature Of Requirement: HUD's regulation at 24 CFR 891.100(d) prohibits amendment of the capital advance fund reservation prior to initial closing.

Granted By: William C. Apgar, Assistant Secretary for Housing-Federal Housing Commissioner.

Date Granted: August 21, 2000.

Reason Waived: HUD determined that there was good cause for the waiver. The project was modest in design, comparable to similar projects in the area, and the sponsor had made every attempt to secure additional funding from outside sources.

Contact: Willie Spearmon, Director, Office of Housing Assistance and Grant Administration, Department of Housing and Urban Development, 451 Seventh Street, SW., Washington, DC 20410, telephone:(202) 708-3000.

• Regulation: 24 CFR 891.100(d).

Project/Activity: Cambridge Apartments, Rutledge, Tennessee, Project Number: 087-EE036/TN37-S981-004.

Nature Of Requirement: HUD's regulation at 24 CFR 891.100(d) prohibits amendment of the capital advance fund reservation prior to initial closing.

Granted By: William C. Apgar, Assistant Secretary for Housing-Federal Housing Commissioner.

Date Granted: August 22, 2000.

Reason Waived: HUD determined that there was good cause for the waiver. The owner had contributed the required minimum capital investment and purchased the site, the project was comparable in cost to similar projects, and the sponsor could not contribute any additional funds.

Contact: Willie Spearmon, Director, Office of Housing Assistance and Grant Administration, Department of Housing and Urban Development, 451 Seventh Street, SW., Washington, DC 20410, telephone:(202) 708-3000.

• Regulation: 24 CFR 891.100(d).

Project/Activity: St. Peter's Place II, Phoenixville, Pennsylvania, Project Number: 034-EE070/PA26-S971-002.

Nature Of Requirement: HUD's regulation at 24 CFR 891.100(d) prohibits amendment of the capital advance fund reservation prior to initial closing.

Granted By: William C. Apgar, Assistant Secretary for Housing-Federal Housing Commissioner.

Date Granted: August 25, 2000.

Reason Waived: HUD determined that there was good cause for the waiver. The project was modest in design, comparable to similar projects in the area and the owner had secured $230,000 from the Federal Home Loan Bank Board and $100,000 from the Chester County Office of Housing and Community Development.

Contact: Willie Spearmon, Director, Office of Housing Assistance and Grant Administration, Department of Housing and Urban Development, 451 Seventh Street, SW., Washington, DC 20410, telephone:(202) 708-3000.

• Regulation: 24 CFR 891.100(d).

Project/Activity: Homes With Hope, Westport, Connecticut, Project Number: 017-HD015/CT26-Q961-001.

Nature Of Requirement: HUD's regulation at 24 CFR 891.100(d) prohibits amendment of the capital advance fund reservation prior to initial closing.

Granted By: William C. Apgar, Assistant Secretary for Housing-Federal Housing Commissioner.

Date Granted: September 26, 2000.

Reason Waived: HUD determined that there was good cause for the waiver. The project was modest in design, comparable to similar projects in the area and the sponsor/owner had exhausted attempts in obtaining funds from other sources.

Contact: Willie Spearmon, Director, Office of Housing Assistance and Grant Administration, Department of Housing and Urban Development, 451 Seventh Street, SW., Washington, DC 20410, telephone:(202) 708-3000.

• Regulations: 24 CFR 891.100(d)and 891.165.

Project/Activity: Alice Williams Towers II, Atlanta, Georgia, Project Number: 061-EE065/GA06-S971-009.

Nature Of Requirement: HUD's regulation at 24 CFR 891.100(d) prohibits amendment of the capital advance fund reservation prior to initial closing. HUD's regulation at 24 CFR 891.165 provides that the duration of a capital advance fund reservation is 18 months from the date of issuance with limited exceptions up to 24 months as approved by HUD on a case-by-case basis.

Granted By: William C. Apgar, Assistant Secretary for Housing-Federal Housing Commissioner.

Date Granted: August 4, 2000.

Reason Waived: HUD determined that there was good cause for the waiver. The project was delayed to allow the sponsor and contractor time to prepare a new construction cost estimate and to obtain zoning approval. The project was also modest in design, comparable to similar projects developed in the area, the sponsor/owner had made every attempt to secure additional funding from outside sources, and the sponsor/owner had exhausted their resources.

Contact: Willie Spearmon, Director, Office of Housing Assistance and Grant Administration, Department of Housing and Urban Development, 451 Seventh Street, SW., Washington, DC 20410, telephone: (202) 708-3000.

• Regulations: 24 CFR 891.100(d) and 891.165.

Project/Activity: HIS/Elois McCoy Village Apartments, Chicago, Illinois, Project Number: 071-EE115/IL06-S961-006.

Nature Of Requirement: HUD's regulation at 24 CFR 891.100(d) prohibits amendment of the capital advance fund reservation prior to initial closing. HUD's regulation at 24 CFR 891.165 provides that the duration of a capital advance fund reservation is 18 months from the date of issuance with limited exceptions up to 24 months as approved by HUD on a case-by-case basis.

Granted By: William C. Apgar, Assistant Secretary for Housing-Federal Housing Commissioner.

Date Granted: August 11, 2000.

Reason Waived: HUD determined that there was good cause for the waiver. The contractor increased his prices and the sponsor had exhausted all efforts to find additional funds from other sources. Additional time was needed to reprocess the firm commitment due to the increase in construction costs and to initially endorse the project.

Contact: Willie Spearmon, Director, Office of Housing Assistance and Grant Administration, Department of Housing and Urban Development, 451 Seventh Street, SW., Washington, DC 20410, telephone: (202) 708-3000.

• Regulations: 24 CFR 891.100(d) and 891.165.

Project/Activity: Selfhelp/United Help Kissena Apartments, Flushing, New York, Project Number: 012-EE224/NY36-S971-011.

Nature Of Requirement: HUD's regulation at 24 CFR 891.100(d) prohibits amendment of the capital advance fund reservation prior to initial closing. HUD's regulation at 24 CFR 891.165 provides that the duration of a capital advance fund reservation is 18 months from the date of issuance with limited exceptions up to 24 months as approved by HUD on a case-by-case basis.

Granted By: William C. Apgar, Assistant Secretary for Housing-Federal Housing Commissioner.

Date Granted: August 11, 2000.

Reason Waived: HUD determined that there was good cause for the waiver. The project encountered delays in securing zoning approvals, the project was economically designed, comparable to similar projects developed in the area, and the sponsor/owner had exhausted their resources.

Contact: Willie Spearmon, Director, Office of Housing Assistance and Grant Administration, Department of Housing and Urban Development, 451 Seventh Street, SW., Washington, DC 20410, telephone:(202) 708-3000.

• Regulations: 24 CFR 891.100(d) and 891.165.

Project/Activity: ASI-Missoula, Missoula, Montana, Project Number: 93-HD013/MY99-Q961-001.

Nature Of Requirement: HUD's regulation at 24 CFR 891.100(d) prohibits amendment of the capital advance fund reservation prior to initial closing. HUD's regulation at 24 CFR 891.165 provides that the duration of a capital advance fund reservation is 18 months from the date of issuance with limited exceptions up to 24 months as approved by HUD on a case-by-case basis.

Granted By: William C. Apgar, Assistant Secretary for Housing-Federal Housing Commissioner.

Date Granted: August 21, 2000.

Reason Waived: HUD determined that there was good cause for the waiver. The owner encountered delays due to the loss of two sites for the project and the death of the specialist who had been working very diligently on the project. The project was economically designed, comparable to other similar projects developed in the jurisdiction, and the owner had exhausted all possible efforts to obtain additional funds.

Contact: Willie Spearmon, Director, Office of Housing Assistance and Grant Administration, Department of Housing and Urban Development, 451 Seventh Street, SW., Washington, DC 20410, telephone: (202) 708-3000.

• Regulations: 24 CFR 891.100(d) and 891.165.

Project/Activity: Pomperaug Senior Housing, Southbury Twp., Connecticut, Project Number: 017-EE040/CT26-S971-008.

Nature Of Requirement: HUD's regulation at 24 CFR 891.100(d) prohibits amendment of the capital advance fund reservation prior to initial closing. HUD's regulation at 24 CFR 891.165 provides that the duration of a capital advance fund reservation is 18 months from the date of issuance with limited exceptions up to 24 months as approved by HUD on a case-by-case basis.

Granted By: William C. Apgar, Assistant Secretary for Housing-Federal Housing Commissioner.

Date Granted: September 26, 2000.

Reason Waived: HUD determined that there was good cause for the waivers. Delays were due to the owner obtaining design approval from the town of Southbury Planning and Zoning Commission. In addition, the project was modest in design, comparable to similar projects developed in the area, and the owner had made every attempt to secure additional funding from other sources.

Contact: Willie Spearmon, Director, Office of Housing Assistance and Grant Administration, Department of Housing and Urban Development, 451 Seventh Street, SW., Washington, DC 20410, telephone: (202) 708-3000.

• Regulations: 24 CFR 891.100(d) and 891.165.

Project/Activity: Cold Spring House, Forstburgh, New York, Project Number: 012-HD075/NY36-Q971-004.

Nature Of Requirement: HUD's regulation at 24 CFR 891.100(d) prohibits amendment of the capital advance fund reservation prior to initial closing. HUD's regulation at 24 CFR 891.165 provides that the duration of a capital advance fund reservation is 18 months from the date of issuance with limited exceptions up to 24 months as approved by HUD on a case-by-case basis.

Granted By: William C. Apgar, Assistant Secretary for Housing-Federal Housing Commissioner.

Date Granted: September 26, 2000.

Reason Waived: HUD determined that there was good cause for the waiver. The owner was unable to obtain additional funds, and the project would receive complete property tax exemption from the locality as well as support service funding from the state. Additionally, a delay of over one year was encountered due to issues associated with the incorporation of the owner.

Contact: Willie Spearmon, Director, Office of Housing Assistance and Grant Administration, Department of Housing and Urban Development, 451 Seventh Street, SW., Washington, DC 20410, telephone: (202) 708-3000.

• Regulation: 24 CFR 891.105 and 891.410(c).

Project Activity: Sugarloaf Village, Diamond City, Arkansas, Project Number 082-EE091.

Nature of Requirement: HUD regulations at 24 CFR Part 891 require that occupancy be limited to Very Low Income (VLI) elderly persons (i.e., households composed of one or more persons at least one of whom is 62 years of age at time of initial occupancy).

Granted By: William C. Apgar, Assistant Secretary for Housing-Federal Housing Commissioner.

Date Granted: September 12, 2000.

Reason Waived: HUD determined that there was good cause for the waiver. The Little Rock Multifamily Program Center requested an age and income waiver for this Section 202/PRAC project. The project is only 4.3 percent occupied after 11 months of occupancy and is unable to attract sufficient elderly tenants because of insufficient local demand. These waivers will allow project management flexibility in attempting to rent up vacant units, thereby maintaining project viability and preventing foreclosure of the project. The waivers will allow elderly and near-elderly families and individuals who are at or over the age of 55 and low income to apply for admission to the project in addition to very low elderly families who will continue to receive an admissions preference.

Contact: Frank M. Malone, Director, Office of Asset Management, Department of Housing and Urban Development, 451 Seventh Street SW., Room 6160, Washington, DC 20410; telephone (202) 708-3730.

• Regulation: 24 CFR 891.120(b), 891.310(b)(1) and (b)(2).

Project/Activity: Options Supported Housing Project V, Scattered Site: Huntington, Huntington Sta., Centereach and Selden, New York, Project Number: 012-HD085/NY36-Q981-006.

Nature Of Requirement: HUD's regulations at 24 CFR 891.120(b), 891.310(b)(1) and (b)(2) govern accessibility standards for the Section 811 program.

Granted By: William C. Apgar, Assistant Secretary for Housing-Federal Housing Commissioner.

Date Granted: August 11, 2000.

Reason Waived: HUD determined there was good cause for the waiver. The project consisted of acquisition with rehabilitation of four group homes for persons with chronic mental illness. One of the sites was designed to be accessible for persons with mobility impairments. To make all units fully accessible for persons with mobility impairments would make the project, as a whole, financially unfeasible. The consumers served under the sponsor's existing programs did not generally require accessible housing, therefore accessibility of the one site was more than adequate for potential residents.

Contact: Willie Spearmon, Director, Office Of Housing Assistance and Grant Administration, Department of Housing and Urban Development, 451 Seventh Street, SW., Washington, DC 20410-7000, telephone: (202) 708-3000.

• Regulation: 24 CFR 891.165.

Project/Activity: Abraham Lincoln Center, Chicago, Illinois, Project Number: 071-HD095/IL06-Q961-010.

Nature Of Requirement: HUD's regulation at 24 CFR 891.165 provides that the duration of a capital advance fund reservation is 18 months from the date of issuance with limited exceptions up to 24 months as approved by HUD on a case-by-case basis.

Granted By: William C. Apgar, Assistant Secretary for Housing-Federal Housing Commissioner.

Date Granted: July 13, 2000.

Reason Waived: HUD determined that there was good cause for the waiver. The City had required the sponsor to obtain the approval of each alderman and the alderman had, in turn, required the approval of each of the communities involved.

Contact: Willie Spearmon, Director, Office of Housing Assistance and Grant Administration, Department of Housing and Urban Development, 451 Seventh Street, SW., Washington, DC 20410, telephone: (202) 708-3000.

• Regulation: 24 CFR 891.165.

Project/Activity: Eaton Knolls, Town of Islip, New York, Project Number: 012-HD076/NY36-Q971-005.

Nature Of Requirement: HUD's regulation at 24 CFR 891.165 provides that the duration of a capital advance fund reservation is 18 months from the date of issuance with limited exceptions up to 24 months as approved by HUD on a case-by-case basis.

Granted By: William C. Apgar, Assistant Secretary for Housing-Federal Housing Commissioner.

Date Granted: July 25, 2000.

Reason Waived: HUD determined that there was good cause for the waiver. Problems were discovered with the title policy which have subsequently been resolved to the satisfaction of all parties.

Contact: Willie Spearmon, Director, Office of Housing Assistance and Grant Administration, Department of Housing and Urban Development, 451 Seventh Street, SW., Washington, DC 20410, telephone: (202) 708-3000.

• Regulation: 24 CFR 891.165.

Project/Activity: Accessible Space, Inc., Birmingham, Alabama, Project Number: 062-HD041/AL09-Q981-004.

Nature Of Requirement: HUD's regulation at 24 CFR 891.165 provides that the duration of a capital advance fund reservation is 18 months from the date of issuance with limited exceptions up to 24 months as approved by HUD on a case-by-case basis.

Granted By: William C. Apgar, Assistant Secretary for Housing-Federal Housing Commissioner.

Date Granted: August 3, 2000.

Reason Waived: HUD determined that there was good cause to grant this waiver. The project had been delayed due to neighborhood opposition.

Contact: Willie Spearmon, Director, Office of Housing Assistance and Grant Administration, Department of Housing and Urban Development, 451 Seventh Street, SW., Washington, DC 20410, telephone: (202) 708-3000.

• Regulation: 24 CFR 891.165.

Project/Activity: Ryder Assisted Care II, Humacao, Puerto Rico, Project Number: 065-HD010/RQ46-Q961-003.

Nature Of Requirement: HUD's regulation at 24 CFR 891.165 provides that the duration of a capital advance fund reservation is 18 months from the date of issuance with limited exceptions up to 24 months as approved by HUD on a case-by-case basis.

Granted By: William C. Apgar, Assistant Secretary for Housing-Federal Housing Commissioner.

Date Granted: August 3, 2000.

Reason Waived: HUD determined that there was good cause for the waiver. Time delays were directly attributable to third parties since required local government endorsements took more than a year to be approved.

Contact: Willie Spearmon, Director, Office of Housing Assistance and Grant Administration, Department of Housing and Urban Development, 451 Seventh Street, SW., Washington, DC 20410, telephone: (202) 708-3000.

• Regulation: 24 CFR 891.165.

Project/Activity: St. Anthony Homes, Baltimore, Maryland, Project Number: 052-HD029/MD06-Q971-003.

Nature Of Requirement: HUD's regulation at 24 CFR 891.165 provides that the duration of a capital advance fund reservation is 18 months from the date of issuance with limited exceptions up to 24 months as approved by HUD on a case-by-case basis.

Granted By: William C. Apgar, Assistant Secretary for Housing-Federal Housing Commissioner.

Date Granted: August 4, 2000.

Reason Waived: HUD determined that there was good cause for the waiver. Additional time was needed to prepare and submit the initial closing package.

Contact: Willie Spearmon, Director, Office of Housing Assistance and Grant Administration, Department of Housing and Urban Development, 451 Seventh Street, SW., Washington, DC 20410, telephone: (202) 708-3000.

• Regulation: 24 CFR 891.165.

Project/Activity: Moorestown Consumer Home, Philadelphia, Pennsylvania, Project Number: 035-HD038/NJ39-Q971-077.

Nature Of Requirement: HUD's regulation at 24 CFR 891.165 provides that the duration of a capital advance fund reservation is 18 months from the date of issuance with limited exceptions up to 24 months as approved by HUD on a case-by-case basis.

Granted By: William C. Apgar, Assistant Secretary for Housing-Federal Housing Commissioner.

Date Granted: August 10, 2000.

Reason Waived: HUD determined that there was good cause for the waiver. The sponsor could not secure control of the site identified, had to secure bridge financing. Additionally, HUD required the sponsor to hire an architect due to the nature and amount of work involved.

Contact: Willie Spearmon, Director, Office of Housing Assistance and Grant Administration, Department of Housing and Urban Development, 451 Seventh Street, SW., Washington, DC 20410, telephone: (202) 708-3000.

• Regulation: 24 CFR 891.165.

Project/Activity: Royale Gardens, Chicago, Illinois, Project Number: 071-EE125/IL06-S961-016.

Nature Of Requirement: HUD's regulation at 24 CFR 891.165 provides that the duration of a capital advance fund reservation is 18 months from the date of issuance with limited exceptions up to 24 months as approved by HUD on a case-by-case basis.

Granted By: William C. Apgar, Assistant Secretary for Housing-Federal Housing Commissioner.

Date Granted: August 11, 2000.

Reason Waived: HUD determined that there was good cause for the waiver. The project had been delayed due to the City of Chicago imposing new requirements regarding detailed breakdowns for landscaping costs.

Contact: Willie Spearmon, Director, Office of Housing Assistance and Grant Administration, Department of Housing and Urban Development, 451 Seventh Street, SW., Washington, DC 20410, telephone: (202) 708-3000.

• Regulation: 24 CFR 891.165.

Project/Activity: Hogar Aurora, Aibonito, Puerto Rico, Project Number: 056-HD015/RQ46-Q971-002.

Nature Of Requirement: HUD's regulation at 24 CFR 891.165 provides that the duration of a capital advance fund reservation is 18 months from the date of issuance with limited exceptions up to 24 months as approved by HUD on a case-by-case basis.

Granted By: William C. Apgar, Assistant Secretary for Housing-Federal Housing Commissioner.

Date Granted: August 11, 2000.

Reason Waived: HUD determined that there was good cause for the waiver. The delay in initial closing was directly attributable to the high cost of construction on the island and the lack of an available contractor to develop the project within the cost limits.

Contact: Willie Spearmon, Director, Office of Housing Assistance and Grant Administration, Department of Housing and Urban Development, 451 Seventh Street, SW., Washington, DC 20410, telephone: (202) 708-3000.

• Regulation: 24 CFR 891.165.

Project/Activity: Three Bridges, Philadelphia, Pennsylvania, Project Number: 031-EE042/NJ39-S961-008.

Nature Of Requirement: HUD's regulation at 24 CFR 891.165 provides that the duration of a capital advance fund reservation is 18 months from the date of issuance with limited exceptions up to 24 months as approved by HUD on a case-by-case basis.

Granted By: William C. Apgar, Assistant Secretary for Housing-Federal Housing Commissioner.

Date Granted: August 16, 2000.

Reason Waived: HUD determined that there was good cause for the waiver. The project was pending a judicial decision concerning settlement of a dispute regarding site control.

Contact: Willie Spearmon, Director, Office of Housing Assistance and Grant Administration, Department of Housing and Urban Development, 451 Seventh Street, SW., Washington, DC 20410, telephone: (202) 708-3000.

• Regulation: 24 CFR 891.165.

Project/Activity: ARC Housing, Wauwatosa, Wisconsin, Project Number: 075-HD053/WI39-Q971-004.

Nature Of Requirement: HUD's regulation at 24 CFR 891.165 provides that the duration of a capital advance fund reservation is 18 months from the date of issuance with limited exceptions up to 24 months as approved by HUD on a case-by-case basis.

Granted By: William C. Apgar, Assistant Secretary for Housing-Federal Housing Commissioner.

Date Granted: August 16, 2000.

Reason Waived: HUD determined that there was good cause for the waiver. The sponsor needed additional time to work out the completion and submission of the closing documents. Additionally, the sponsor experienced problems with lead based paint removal, underground storage tanks, an elevator and relocation.

Contact: Willie Spearmon, Director, Office of Housing Assistance and Grant Administration, Department of Housing and Urban Development, 451 Seventh Street, SW., Washington, DC 20410, telephone: (202) 708-3000.

• Regulation: 24 CFR 891.165.

Project/Activity: Absecon Consumer Home, Philadelphia, Pennsylvania, Project Number: 031-HD084/NJ39-Q971-009.

Nature Of Requirement: HUD's regulation at 24 CFR 891.165 provides that the duration of a capital advance fund reservation is 18 months from the date of issuance with limited exceptions up to 24 months as approved by HUD on a case-by-case basis.

Granted By: William C. Apgar, Assistant Secretary for Housing-Federal Housing Commissioner.

Date Granted: August 16, 2000.

Reason Waived: HUD determined that there was good cause for the waiver. The sponsor had to locate a new site for the project and this was the sponsor's first experience with modular units (which it was using to replace the existing facility on the site and hoped to replicate in the future).

Contact: Willie Spearmon, Director, Office of Housing Assistance and Grant Administration, Department of Housing and Urban Development, 451 Seventh Street, SW., Washington, DC 20410, telephone: (202) 708-3000.

• Regulation: 24 CFR 891.165.

Project/Activity: Ft. Washington Adventist Apartments—New Life Homes, Albuquerque, New Mexico, Project Number: 116-HD015/NM16-Q001-001.

Nature Of Requirement: HUD's regulation at 24 CFR 891.165 provides that the duration of a capital advance fund reservation is 18 months from the date of issuance with limited exceptions up to 24 months as approved by HUD on a case-by-case basis.

Granted By: William C. Apgar, Assistant Secretary for Housing-Federal Housing Commissioner.

Date Granted: August 30, 2000.

Reason Waived: HUD determined that there was good cause for the waiver. The project had been delayed due to zoning issues and the need for local government approval of its water/sewer classification.

Contact: Willie Spearmon, Director, Office of Housing Assistance and Grant Administration, Department of Housing and Urban Development, 451 Seventh Street, SW., Washington, DC 20410, telephone: (202) 708-3000.

• Regulation: 24 CFR 891.165.

Project/Activity: Ray Rawson Villa, Las Vegas, Nevada, Project Number: 125-HD064/NV25-Q971-001.

Nature Of Requirement: HUD's regulation at 24 CFR 891.165 provides that the duration of a capital advance fund reservation is 18 months from the date of issuance with limited exceptions up to 24 months as approved by HUD on a case-by-case basis.

Granted By: William C. Apgar, Assistant Secretary for Housing-Federal Housing Commissioner.

Date Granted: August 30, 2000.

Reason Waived: HUD determined that there was good cause for the waiver. The project experienced delays while the sponsor raised funds to meet the increased construction costs.

Contact: Willie Spearmon, Director, Office of Housing Assistance and Grant Administration, Department of Housing and Urban Development, 451 Seventh Street, SW., Washington, DC 20410, telephone: (202) 708-3000.

• Regulation: 24 CFR 891.165.

Project/Activity: Timothy Place, Plum Borough, Allegheny County, Pennsylvania, Project Number: 033-HD048/PA28-Q971-010.

Nature Of Requirement: HUD's regulation at 24 CFR 891.165 provides that the duration of a capital advance fund reservation is 18 months from the date of issuance with limited exceptions up to 24 months as approved by HUD on a case-by-case basis.

Granted By: William C. Apgar, Assistant Secretary for Housing-Federal Housing Commissioner.

Date Granted: August 30, 2000.

Reason Waived: HUD determined that there was good cause for the waiver. The first two approved sites were abandoned due to the sponsor's inability to secure additional sewer taps through the Department of Environmental Protection and to obtain a zoning variance from the local government.

Contact: Willie Spearmon, Director, Office of Housing Assistance and Grant Administration, Department of Housing and Urban Development, 451 Seventh Street, SW., Washington, DC 20410, telephone: (202) 708-3000.

• Regulation: 24 CFR 891.165.

Project/Activity: Sumac Trail Apartments, Milwaukee, Wisconsin, Project Number: 075-HD050/WI39-Q971-001.

Nature Of Requirement: HUD's regulation at 24 CFR 891.165 provides that the duration of a capital advance fund reservation is 18 months from the date of issuance with limited exceptions up to 24 months as approved by HUD on a case-by-case basis.

Granted By: William C. Apgar, Assistant Secretary for Housing-Federal Housing Commissioner.

Date Granted: September 8, 2000.

Reason Waived: HUD determined that there was good cause for the waiver. Additional time was needed by the sponsor to correct deficiencies to their firm commitment application.

Contact: Willie Spearmon, Director, Office of Housing Assistance and Grant Administration, Department of Housing and Urban Development, 451 Seventh Street, SW., Washington, DC 20410, telephone: (202) 708-3000.

• Regulation: 24 CFR 891.165.

Project/Activity: New Opportunities For Waterbury, Waterbury, Connecticut, Project Number: 017-HD008.

Nature Of Requirement: HUD's regulation at 24 CFR 891.165 provides that the duration of a capital advance fund reservation is 18 months from the date of issuance with limited exceptions up to 24 months as approved by HUD on a case-by-case basis.

Granted By: William C. Apgar, Assistant Secretary For Housing-Federal Housing Commissioner.

Date Granted: September 12, 2000.

Reason Waived: HUD determined that there was good cause for the waiver. Additional time was needed by the sponsor to secure control of two of the four sites.

Contact: Willie Spearmon, Director, Office of Housing Assistance and Grant Administration, Department of Housing and Urban Development, 451 Seventh Street, SW., Washington, DC 20410, telephone: (202) 708-3000.

• Regulation: 24 CFR 891.165.

Project/Activity: Nashville Supportive Housing Development, Nashville, Tennessee, Project Number: 086-HD016/TN43-Q971-001.

Nature Of Requirement: HUD's regulation at 24 CFR 891.165 provides that the duration of a capital advance fund reservation is 18 months from the date of issuance with limited exceptions up to 24 months as approved by HUD on a case-by-case basis.

Granted By: William C. Apgar, Assistant Secretary For Housing-Federal Housing Commissioner.

Date Granted: September 25, 2000.

Reason Waived: HUD determined that there was good cause for the waiver. The sponsor was unable to secure proper zoning on the original site and had to locate an alternate site.

Contact: Willie Spearmon, Director, Office of Housing Assistance and Grant Administration, Department of Housing and Urban Development, 451 Seventh Street, SW., Washington, DC 20410, telephone: (202) 708-3000.

• Regulation: 24 CFR 891.525.

Project/Activity: Brooklyn Home for Aged People, New York, New York, Project Number: 012-EH059/NY36-T781-032.

Nature Of Requirement: HUD's regulation at 24 CFR 891.165 provides that the duration of a capital advance fund reservation is 18 months from the date of issuance with limited exceptions up to 24 months as approved by HUD on a case-by-case basis.

Granted By: William C. Apgar, Assistant Secretary for Housing-Federal Housing Commissioner.

Date Granted: September 8, 2000.

Reason Waived: HUD determined that there was good cause for the waiver. The project was beset with problems, including the fact that the contractor took the project to arbitration over the slow rate of progress. The project was scheduled for completion on or before June 1984. In order to complete construction, the original mortgage was increased and the borrower arranged in 1988 for a second general contractor to complete construction. In an attempt to avoid any liability, the borrower filed for bankruptcy in 1989. The bankruptcy agreement stipulated that the supplemental loan be at 0 percent interest and this agreement was binding.

Contact: Willie Spearmon, Director, Office of Housing Assistance and Grant Administration, Department of Housing and Urban Development, 451 Seventh Street, SW., Washington, DC 20410, telephone: (202) 708-3000.

• Regulation: 24 CFR 891.575 and 891.610(c).

Project/Activity: Northview Apartments, Okemah, Oklahoma, Project Number 117-EH089.

Nature of Requirement: HUD's regulations at 24 CFR part 891 limit occupancy to very low income (VLI) elderly households where or one or more persons is at least 62 years of age at the time of initial occupancy.

Granted By: William C. Apgar, Assistant Secretary for Housing-Federal Housing Commissioner.

Date Granted: July 20, 2000.

Reason Waived: HUD determined that there was good cause for the waiver. The Kansas City multifamily HUB requested waiver of this regulation due to the limited market of elderly individuals and families. This project is located in a small rural community and has historically been unable to attract elderly families to fill vacancies. This waiver will expand the number of eligible households who can be admitted to the property allowing the owner additional, necessary flexibility in renting up units.

Contact: Frank M. Malone, Director, Office of Asset Management, Department of Housing and Urban Development, 451 Seventh Street SW., Room 6160, Washington, DC 20410; telephone: (202) 708-3730.

• Regulations: 24 CFR 891.575 and 891.610(c).

Project/Activity: IOOF Tower, Salt Lake City, Utah, Project No: 105-EH050.

Nature of Requirement: HUD's regulations at 24 CFR part 891 limit occupancy to very low income households composed of two or more persons at least one of whom is 62 years of age or older at the time of initial occupancy.

Granted By: William C. Apgar, Assistant Secretary for Housing-Federal Housing Commissioner.

Date Granted: September 12, 2000.

Reason Waived: HUD determined that there was good cause for the waiver. The Denver multifamily HUB requested an age waiver because the project had been unable to sustain occupancy due to the somewhat depressed surrounding neighborhood and declining demand for very low income elderly housing. The waiver allowed property management to rent up vacant units.

Contact: Frank M. Malone, Director, Office of Asset Management, Department of Housing and Urban Development, 451 Seventh Street SW., Room 6160, Washington, DC 20410; telephone: (202) 708-3730.

• Regulation: 24 CFR 891.575 and 610(c).

Project/Activity: Calvary Tower, Salt Lake City, Utah, Project Number: 105-EH048.

Nature Of Requirement: HUD's regulations at 24 CFR part 891 limit occupancy to very low income households composed of two or more persons at least one of whom is 62 years of age or older at the time of initial occupancy.

Granted By: William C. Apgar, Assistant Secretary for Housing-Federal Housing Commissioner.

Date Waived: September 20, 2000.

Reason Waived: HUD determined that there was good cause for the waiver. The Denver Multifamily Hub requested an age waiver for the project due to the soft market for elderly properties in the Salt Lake City area. The surrounding neighborhood of Calvary Tower is somewhat depressed which also contributes to vacancy problems. Even though the property is currently full, any long term vacancies would pose a financial strain on this property and there is only one applicant on the waiting list. Lowering the age requirement from 62 to 55 and older will allow project management flexibility in attempting to alleviate vacancy problems.

Contact: Frank M. Malone, Director, Office of Asset Management, Department of Housing and Urban Development, 451 Seventh Street SW., Room 6160, Washington, DC 20410; telephone: (202) 708-3730.

IV. Regulatory Waivers Granted by the Office of Multifamily Housing Assistance Restructuring (OHMAR)

For further information about the following waiver actions, please see the name of the person which immediately follows the description of the waiver granted.

• Regulation: 24 CFR 401.600.

Project/Activity: The following projects requested waivers to the 12-month limit at above-market rents (24 CFR 401.600):

FHA No. | Project name | State
06235027 | Alexander Court | AL
06235337 | Monroe Avenue | AL
08235040 | Harmony Homes Apartments | AR
08235018 | North Acres Apartments | AR
01711020 | New Era Court | CT
01735106 | Old Middletown High School | CT
06635031 | Central Area Apts. | FL
06335044 | Pana Villa Gardens | FL
17135076 | Johnson Manor | ID
07335270 | Retired Tigers | IN
09244036 | Torre de San Miguel | MN
11655006 | Clovis II | NM
11635097 | Four Seasons | NM
11644046 | King Arthur's Court Apts. | NM
11644047 | Tradewinds Carriage Apts. | NM
01435022 | Lincoln Arms | NY
04644069 | Albright | OH
04635027 | Danner Park Apts. | OH
04335090 | Fairview II | OH
04335125 | Urbana Hollow | OH
11744077 | Paradise Corners | OK
03435014 | Beckett Gardens | PA
03344180 | Bethesda Wilkinsburg | PA
03455033 | Crosby | PA
03335006 | Harriet Tubman Terrace | PA
03344157 | Jeannette Gardens | PA
03355008 | Liberty Park Apts. | PA
03344040 | Palisades Manor | PA
03344119 | Parkview Manor Apts. | PA
01644066 | 1890 House | RI
01635010 | Roger & Roger | RI
05435075 | St. Stephens Apts. | SC
08744033 | Jaycee Progress, Inc. | TN
08744033 | Jaycee Progress, Inc. | TN
08635039 | Pulaski Terrace Apts. I | TN
11344036 | Abilene North Apts. | TX
05935009 | Belaire Manor | TX
11435063 | Cleme Manor | TX
11335005 | Prince Hall Garden II | TX
11435017 | Prince Hall Plaza | TX
11435005 | Prince Hall Village | TX
11435077 | Rolland Hilliard | TX
11435046 | Settegast | TX
13344034 | Woodcrest Apartments | TX
05135040 | Caru | VA
05135117 | Caru East | VA
05135111 | Dorchester Square | VA
05135034 | Kings Court | VA
12735237 | Burien Haus | WA
12735144 | Omak Stampede | WA
17144040 | Pine Villa | WA
07535078 | Goodman Homes | WI
07535071 | Oakwood Haven Vine Court Apts. | WI
07535077 | Oakwood Haven Vine Court Apts. | WI
07535078 | Pioneer Villa Goodman Homes | WI
07535076 | Pioneer Villa Goodman Homes | WI
07535077 | Vine Court Apts. | WI
10935035 | Westgate Apartments | WY

Nature of Requirement: HUD's regulation at 24 CFR 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: July 11, 2000.

Reasons Waived: HUD determined that there was good cause for the waivers. The attached list of projects were not assigned to the PAEs in a timely manner or for which the restructuring analysis was unavoidably delayed due to no fault of the owner.

Contact: Dan Sullivan, Office of Multifamily Housing Assistance Restructuring, Department of Housing and Urban Development, Portals Building, Suite 400, 1280 Maryland Avenue SW., Washington, DC 20410; telephone (202) 708-0001.

• Regulation: 24 CFR 401.600.

Project/Activity: The following projects requested waivers to the 12-month limit at above-market rents (24 CFR 401.600):

FHA No. | Project name | State
06235045 | Spring Creek | AL
08235039 | Chicot Limited Partnership | AR
08235036 | Haygood Neal Garden Apartments | AR
08235049 | Pilgrim Rest Limited Partnership | AR
08235019 | Smith Keys Village | AR
08244015 | Village Park South I | AR
08244042 | Village Park South II | AR
06735015 | Shull Manor | FL
06344041 | Sutton Place | FL
06344041 | Sutton Place | FL
06344041 | Sutton Place | FL
06344041 | Sutton Place | FL
06735016 | Tropical Manor | FL
06135006 | Bethel Church Homes | GA
07435068 | Benton Place | IA
07135341 | Doyle family | IL
08335241 | Lebanon Apts. | KY
08335251 | Robinwood Park | KY
08335239 | Sandefur Manor | KY
02355123 | Park Gardens | MA
02344152 | Rap-Up II B | MA
02238003 | Dominican Court | ME
09235359 | Falls South Apartments | MN
06535004 | Canton Garden Apartments | MS
06535027 | Eastview Apartments | MS
06535244 | Hilldale Apartments | MS
06535159 | Martin Luther King Memorial Apts. | MS
06535242 | Oakdale Apartments | MS
09335068 | Sherwood Inn | MT
01335060 | Country Club Court | NY
01335048 | Robinson Square | NY
01257044 | Sumet I | NY
01335056 | Summit Towers | NY
01332002 | Woodburn Court | NY
11794009 | Country Park | OK
11844025 | Riverview Village | OK
05435037 | Mt. Zion I | SC
05444005 | Mt. Zion II | SC
11444026 | Cedarwood Apartments | TX
10935028 | Ranger Apartments | WY
10935040 | Trails Apartments | WY

Nature of Requirement: HUD's regulation at 24 CFR 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: August 2, 2000.

Reason Waived: HUD determined that there was good cause for the waivers. The attached list of projects were not assigned to the PAEs in a timely manner and for which the restructuring analysis was unavoidably delayed due to no fault of the owner.

Contact: Dan Sullivan, Office of Multifamily Housing Assistance Restructuring, Department of Housing and Urban Development, Portals Building, Suite 400, 1280 Maryland Avenue SW., Washington, DC 20410; telephone (202) 708-0001.

• Regulation: 24 CFR 401.600.

Project/Activity: The following projects requested waivers to the 12-month limit at above-market rents (24 CFR 401.600):

FHA No. | Project name | State
00035113 | Benning Courts | DC
06344037 | Forest Green | FL
06692002 | Harlem Gardens | FL
06335042 | Hastings Apartments | FL
06335034 | Marion Manor | FL
06344051 | Springfield Res I | FL
07444052 | Green Valley Manor | IA
07235053 | Cougill Apts | IL
08335253 | Regency Park-Louisville | KY
06535048 | Northland Village Apartments | MS
09355004 | Hillview Apartments | MT
03535026 | Delsea Gardens | NJ
11692502 | Hobbs Apts. | NM
11692506 | Quay Apts. | NM
01355007 | Eljay Apartments | NY
01444028 | Fight Village | NY
01344008 | Syracuse Apts. | NY
01344072 | Syracuse Rehab V | NY
01444035 | Whitney Neighborhood | NY
04335138 | Discovery 76 | OH
11735129 | Arbuckle Ridge | OK
11735130 | Arbuckle Ridge | OK
11835060 | Autumn Wood Apartments | OK
11744006 | London Square | OK
11744077 | Paradise Corners | OK
11744106 | Southgate | OK
11835093 | Willow Gardens | OK
11838006 | Willow Rock Apartments | OK
03344098 | First Erie Better Housing West | PA
03444815 | Geneva House | PA
03435130 | Hampton House | PA
03344044 | Monview Heights | PA
03335081 | Penn Towers | PA
03335004 | Punxsutawney Sycamore | PA
03444049 | Wayneview Apartments | PA
08192503 | Crestview Manor | TN
08192502 | Parkway East I | TN
08135023 | Parkway East II | TN
08135047 | Ridgley Manor | TN
08135051 | Somerville Apts. | TN
08135069 | Southside Manor | TN
08135014 | Tulane I Apts. | TN
11344036 | Abilene North Apts. | TX
11435225 | Beverly Place | TX
11235257 | Lake June Village | TX
11535021 | Lulac Village Park | TX
11335004 | Prince Hall Garden I | TX
08244031 | Town North Apartments | TX
08244031 | Town North Apartments | TX
11544037 | Villa Madre | TX
05155001 | Brightwood Apts. | VA
17135178 | Court Arthur | WA
17144046 | Parkview Apartments | WA
07535291 | Fordem Towers | WI
07535168 | Pine Creek I Apartments | WI
07535117 | Woodridge Gardens | WI
04535006 | Rivermont Homes | WV

Nature of Requirement: HUD's regulation at 24 CFR 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: August 16, 2000.

Reason Waived: HUD determined that there was good cause for the waivers. The attached list of projects were not assigned to the PAEs in a timely manner or for which the restructuring analysis was unavoidably delayed due to no fault of the owner.

Contact: Dan Sullivan, Office of Multifamily Housing Assistance Restructuring, Department of Housing and Urban Development, Portals Building, Suite 400, 1280 Maryland Avenue SW., Washington, DC 20410; telephone (202) 708-0001.

• Regulation: 24 CFR 401.600.

Project/Activity: The following projects requested waivers to the 12-month limit at above-market rents (24 CFR 401.600):

FHA No. | Project name | State
06292002 | Stonegate Village | AL
10135207 | Arvada House | CO
00044142 | Brookland Manor Apartments | DC
00044142 | Brookland Manor Apartments | DC
00035110 | Fairmont I Apartments | DC
00055068 | W Street Apartments | DC
03235003 | Banneker Heights | DE
06735048 | Central Court Apartments | FL
06335030 | Eastside Garden Apartments | FL
06335031 | Eastside Terrace Apartments | FL
06335101 | Oakdale Garden Apartments | FL
06735035 | Seminole Garden Apartments | FL
06344051 | Springfield Residential One | FL
06344051 | Springfield Residential One | FL
06192505 | Etheridge Court Apartments I | GA
14035074 | Hausten Gardens | HI
07435130 | Autumn Park Apartments | IA
12435028 | Pocatello Properties | ID
07135339 | Countryside Manor | IL
07135369 | Pullman Wheelworks | IL
07344455 | Weyerbacher Terrace Apartments | IN
07344455 | Weyerbacher Terrace Apartments | IN
02344152 | Rap-Up II B | MA
09235299 | Park Place Apartments | MN
09335007 | Big Sky Apartments | MT
09335074 | Grande Villa Apartments | MT
03135185 | Baldwin Oaks Apartments | NJ
11635015 | Santa Rosa Apartments | NM
11635056 | Villa Del Sol Apts | NM
01235193 | Belmont Apartments | NY
01257029 | Parkview Apartments | NY
01255173 | Siloam House | NY
01235306 | St. Joseph's Village | NY
01255012 | Towne Gardens Housing Development | NY
04335204 | Cambridge Village | OH
04335173 | Knollwood Commons | OH
04335197 | Liberty Commons | OH
04335153 | Momentum 75 | OH
04635388 | Parkview Arms II | OH
04335100 | Rehab Unlimited | OH
04335107 | Townhomes Properties, Ltd No. 1 | OH
04335084 | U.S. #51 Apartments | OH
11735013 | Country Cove Housing | OK
11744115 | Hillcrest Green Apartments | OK
11744077 | Paradise Corner Apartments | OK
11835084 | Willow Creek Apartments | OK
11835084 | Willow Creek Apartments | OK
11835080 | Willow Park Apartments | OK
03344045 | Bedcliff Apartments | PA
03344071 | Bethome | PA
03344108 | Colver Hotel Apartments | PA
03444808 | Enon Toland Apartments | PA
03442029 | Hedgerow Apartments | PA
03438017 | Lincoln Towers | PA
03344050 | Oliver Plaza Apartments | PA
03310002 | Palisades Plaza | PA
01658501 | Develco Apartments | RI
01644032 | Develco Family Apartments | RI
08192504 | Tulane II Apartments | TN
08135035 | Warren Apartments | TN
11344036 | Abilene North Apartments | TX
11435225 | Beverly Place Apts | TX
11444026 | Cedarwood Apartments | TX
11435023 | Independent Missionary Village Apartments | TX
11535024 | North Side Manor Apartments | TX
11492501 | Oakhill Plaza Apartments | TX
11235070 | Park Manor Apartments | TX
11235014 | Prince Hall Chambre Apartments | TX
11235029 | St. James Manor Apartments | TX
11344001 | Villa Supreme Apartments | TX
11344001 | Villa Supreme Apartments | TX
13344034 | Woodcrest Apartments | TX
17144066 | Hillcrest Apartments | WA
17144046 | Parkview Apartments | WA
17144022 | Richard Allen Apartments | WA
07535072 | Coleman Manor | WI
07535024 | Fairfield Homes | WI
07535240 | Housing Facilities of Monticello | WI
07535073 | Laona Manor | WI
07535081 | Lena Plaza | WI

Nature of Requirement: HUD's regulation at 24 CFR 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: August 31, 2000.

Reasons Waived: HUD determined that there was good cause for the waivers. The attached list of projects were not assigned to the PAEs in a timely manner or for which the restructuring analysis was unavoidably delayed due to no fault of the owner.

Contact: Dan Sullivan, Office of Multifamily Housing Assistance Restructuring, Department of Housing and Urban Development, Portals Building, Suite 400, 1280 Maryland Avenue SW., Washington, DC 20410; telephone (202) 708-0001.

• Regulations: 24 CFR 401.600.

Project/Activity: The following projects requested waivers to the 12-month limit at above-market rents (24 CFR 401.600):

FHA No. | Project name | State
10135218 | High Country Apartments | CO
00044150 | Eleventh Street Apartments | DC
06135053 | Lakeview Apartments | GA
06135037 | Pine Valley Apartments | GA
07344381 | Caravelle Commons Cooperative | IN
00055019 | Glenarden I Apartments | MD
00055019 | Glenarden I Apartments | MD
00012005 | Glenarden II Apartments | MD
00012005 | Glenarden II Apartments | MD
00012005 | Glenarden II Apartments | MD
00012005 | Glenarden II Apartments | MD
05235079 | Perrywood Garden Apartments | MD
02235011 | Maple Knolls Apartments | ME
02235011 | Maple Knolls Apartments | ME
09335056 | Eagles Manor No. 2 | MT
04235042 | Chip Apartments II | OH
04244008 | Ralston Square Apartments | OH
04235180 | Rockefeller Park Towers | OH
11235145 | Belle Oaks Apartments | TX
13355006 | Villa Del Norte Apartments | TX
13355006 | Villa Del Norte Apartments | TX
13344034 | Woodcrest Apartments | TX
13344034 | Woodcrest Apartments | TX
05135057 | Rivermont Apartments | VA

Nature of Requirement: HUD's regulation at 24 CFR 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: September 22, 2000.

Reason Waived: HUD determined that there was good cause for the waivers. The attached list of projects were not assigned to the PAEs in a timely manner or for which the restructuring analysis was unavoidably delayed due to no fault of the owner.

Contact: Dan Sullivan, Office of Multifamily Housing Assistance Restructuring, Department of Housing and Urban Development, Portals Building, Suite 400, 1280 Maryland Avenue SW., Washington, DC 20410; telephone (202) 708-0001.

V. Regulatory Waivers Granted by the Office of Public and Indian Housing

For further information about the following waiver actions, please see the name of the person which immediately follows the description of the waiver granted.

• Regulation: 24 CFR 950.980 as in effect at the time of grant award.

Project/Activity: A request was made by the Cheyenne River Housing Authority (CRHA), Eagle Butte, South Dakota, for a one-year extension of their FY 1994 FIC grant to continue support and funding for their Single Mother's Self-Sufficiency Program.

Nature of Requirement: While no longer in effect, HUD's regulations at 24 CFR 950.980 governed the Family Investment Center (FIC) program at the time of the initial grant award. The FIC program does not have current regulations and the NOFA does not provide guidance on grant term extensions. The application kit states that the grant term will be of three to five years duration, depending upon the activities undertaken.

Granted By: Harold Lucas, Assistant Secretary for Public and Indian Housing.

Date Granted: June 19, 2000.

Reason Waived: HUD determined that there was good cause for the waiver. The FIC grant awarded to the CRHA has funded the Single Mother's Self-Sufficiency Program which has provided basic life skills, training and transitional housing for many homeless single mothers, as well as educational opportunities to seventy-four young women, thirty-three of which have completed their entire educational plan; forty-one of the participating that have not completed their goals will be able to achieve them during this additional year of operating the program; the success of the program has prompted the Board of Directors to approve a pilot program for single fathers, providing the same services to men in the area; and the CRHA has been highly competent in submitting their annual reports and financial status reports to the Northern Plains ONAP in a timely manner.

Contact: Tracy C. Outlaw, National Office of Native American Programs (ONAP), Department of Housing and Urban Development, 1999 Broadway—Suite 3390, Denver, Colorado 80202, telephone: (303) 675-1600.

• Regulation: 24 CFR 963.10(d).

Project/Activity: Tampa Housing Authority, Florida, Public Housing Program.

Nature of Requirement: HUD's regulation at 24 CFR 963.10(d) restricts a public housing agency (PHA) from contracting with a resident-owned business in excess of $1,000,000.

Granted By: Harold Lucas, Assistant Secretary for Public and Indian Housing.

Date Granted: July 26, 2000.

Reason Waived: HUD determined that there was good cause for the waiver. Approval of the waiver permitted the PHA to exceed the limit for contracting with resident-owned businesses and closed two Regional Inspector General Audit findings against the PHA.

Contact: Gerald Benoit, Director, Real Estate and Housing Performance Division, Office of Public and Indian Housing, Department of Housing and Urban Development, 451 Seventh St. SW., Washington, DC 20410, telephone: (202) 708-0477.

• Regulation: 24 CFR 982.306(d).

Project/Activity: Vermont State Housing Authority, Vermont, Housing Choice Voucher Program.

Nature of Requirement: HUD's regulation at 24 CFR 982.306(d) limits the circumstances under which a public housing agency may approve the leasing of a unit if the owner of the unit is a close relative of the family.

Granted By: Harold Lucas, Assistant Secretary for Public and Indian Housing.

Date Granted: August 2, 2000.

Reason Waived: HUD determined that there was good cause for the waiver. Approval of the waiver permitted a voucher holder to lease a unit from a relative because of the unavailability of suitable vacant rental housing in the PHA's jurisdiction.

Contact: Gerald Benoit, Director, Real Estate and Housing Performance Division, Office of Public and Indian Housing, Department of Housing and Urban Development, 451 Seventh St. SW., Washington, DC 20410, telephone: (202) 708-0477.

• Regulation: 24 CFR 982.306(d).

Project/Activity: Saint Paul Public Housing Agency, Minnesota, Housing Choice Voucher Program.

Nature of Requirement: HUD's regulation at 24 CFR 982.306(d) limits the circumstances under which a public housing agency may approve the leasing of a unit if the owner of the unit is a close relative of the family.

Granted By: Harold Lucas, Assistant Secretary for Public and Indian Housing.

Date Granted: August 7, 2000.

Reason Waived: HUD determined that there was good cause for the waiver. Approval of the waiver permitted a large family to find suitable housing to lease under the housing choice voucher program. The availability of vacant units with three or more bedrooms in the PHA's jurisdiction was extremely low. The market area vacancy rate was less than one percent.

Contact: Gerald Benoit, Director, Real Estate and Housing Performance Division, Office of Public and Indian Housing, Department of Housing and Urban Development, 451 Seventh St. SW., Washington, DC 20410, telephone: (202) 708-0477.

• Regulation: 24 CFR 982.306(d).

Project/Activity: Northeast Nebraska Joint Housing Authority, Nebraska, Housing Choice Voucher Program

Nature of Requirement: HUD's regulation at 24 CFR 982.306(d) limits the circumstances under which a public housing agency (PHA) may approve the leasing of a unit if the owner of the unit is a close relative of the family.

Granted By: Harold Lucas, Assistant Secretary for Public and Indian Housing.

Date Granted: August 11, 2000.

Reason Waived: HUD determined that there was good cause for the waiver. Approval of the waiver permitted a voucher holder to lease a unit from a relative in a small rural area where there was limited availability of eligible housing units to lease under the program.

Contact: Gerald Benoit, Director, Real Estate and Housing Performance Division, Office of Public and Indian Housing, Department of Housing and Urban Development, 451 Seventh St. SW., Washington, DC 20410, telephone: (202) 708-0477.

• Regulation: 24 CFR 983.4(a)(3).

Project/Activity: Burlington Housing Authority (BHA), Vermont, Project-Based Certificate Program.

Nature of Requirement: HUD's regulation at 24 CFR 983.4(a)(3) governs HUD approval of PHA submissions of intent to attach Project based assistance to units. Project-based units proposed for attachment may not be under a tenant-based or Project-based HAP contract or otherwise committed through issuance of certificates or under agreements to enter into HAP contract.

Granted By: Harold Lucas, Assistant Secretary for Public and Indian Housing.

Date Granted: July 20, 2000.

Reason Waived: HUD determined that there was good cause for the waiver. Approval of the waiver permitted applicants on the BHA waiting list to be assisted sooner, since BHA will not be required to hold voucher assistance as long for future Project-based use, and the waiver also permitted improved utilization of BHA voucher funding during the ACC terms of voucher increments consistent with HUD policy to fully use units reserved under the ACC and allocated budget authority.

Contact: Gerald Benoit, Director, Real Estate and Housing Performance Division, Office of Public and Indian Housing, Department of Housing and Urban Development, 451 Seventh St. SW., Washington, DC 20410, telephone: (202) 708-0477.

• Regulation: 24 CFR 1000.214.

Project/Activity: A request was made by the Match-E-Be-Nash-Shw-Wish band of Pottawatomi Indians (MBPI), Door, Michigan, to submit their Indian Housing Plan (IHP) to the Eastern Woodlands beyond the due date of July 1, 1999.

Nature of Requirement: HUD's regulation at 24 CFR 1000.214 states that IHPs must be initially sent by the recipient to the Area ONAP no later than July 1. Section 1000.216 states that if the IHP is not initially sent by July 1, the recipient will not eligible for IHBG funds for that fiscal year.

Granted By: Harold Lucas, Assistant Secretary for Public and Indian Housing.

Date Granted: August 7, 2000.

Reason Waived: HUD determined that there was good cause for the waiver. The MBPI was unable to meet the submission date for the FY 2000 IHP due to circumstances beyond their control. The MBPI was federally recognized on August 23, 1999, and has spent most of the last year working to establish the basic elements for the MBPI's government and organization. Healthcare was the MBPI's first priority, so a health program was established. The small staff was unable to work on housing issues in addition to all other activities. The MBPI can now address the housing issues.

Contact: Tracy C. Outlaw, National Office of Native American Programs (ONAP), Department of Housing and Urban Development, 1999 Broadway—Suite 3390, Denver, Colorado 80202, Telephone: (303) 675-1600.

[FR Doc. 01-1537 Filed 1-17-01; 8:45 am]

BILLING CODE 4210-33-P